DEPARTMENT OF THE INTERIOR

Bureau of Indian Affairs

[210A2100DD/AAKC001030/A0A501010.999900 253G; OMB Control Number 1076-NEW]

Agency Information Collection Activities; Supervised Individual Indian Money Accounts

AGENCY: Bureau of Indian Affairs, Interior.

ACTION: Notice of Information Collection; request for comment.

SUMMARY: In accordance with the Paperwork Reduction Act of 1995, we, the Bureau of Indian Affairs (BIA), are proposing a new information collection.

DATES: Interested persons are invited to submit comments on or before February 25, 2020.

ADDRESSES: Send your comments on this information collection request (ICR) by mail to Evangeline Campbell, Chief, Division of Human Services, Office of Indian Services, Bureau of Indian Affairs, Department of the Interior, 1849 C. Street NW, Mail Stop: 3645, Washington, DC 20240; or by email to evangeline.campbell@bia.gov. Please reference OMB Control Number 1076-NEW in the subject line of your comments.

FOR FURTHER INFORMATION CONTACT: To request additional information about this ICR, contact George Peterson, IIM Specialist, Division of Human Services, Office of Indian Services, Bureau of Indian Affairs, Department of the Interior by email at george.peterson@bia.gov, or by telephone at (202) 208-4038.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BIA is seeking approval for an information collection it conducts to provide assistance to individuals who have a supervised Individual Indian Money (IIM) Account under 25 CFR part 115. This information collection allows BIA to carry out trust duties and to manage and administer trusts for the exclusive benefit of Tribal and individual Indian beneficiaries pursuant to Federal law, including the American Indian Trust Fund Management Reform Act of 1994, Public Law 103-412, 108 Stat. 4239, 25 U.S.C. 4001. Upon the request of an adult or other interested party, a BIA Social Services provider may provide an account holder with a social services assessment under 25 CFR 20.404 to evaluate the account holder's circumstances, abilities, and need for assistance in management of his/her financial affairs. The provider conducting the assessment will evaluate the client's unmet needs with the account holder and/or representative, to include the information noted in 25 CFR 115.420. The provider will then complete a plan for the Office of the Special Trustee for American Indians (OST) to disburse money (“distribution plan”) for the account holder based on unmet needs, as justified by information in Part 2 of the Social Services Assessment and Evaluation form.

Title of Collection: Supervised Individual Indian Money Accounts.

OMB Control Number: 1076-NEW.

Form Number: None.

Type of Review: New.

Respondents/Affected Public: Individual Indians with a supervised IIM account.

Total Estimated Number of Annual Respondents: Assessment and Evaluation form: 1,000; Distribution Plan 1,000; Major Purchase Request 20.

Total Estimated Number of Annual Responses: Assessment and Evaluation form: 1,000; Distribution Plan 1,000; Major Purchase Request 20.

Estimated Completion Time per Response: 2.5 hours for the Assessment and Evaluation form; 30 minutes for the Distribution Plan; and 30 minutes for the Major Purchase Request.

Total Estimated Number of Annual Burden Hours: 1,500 hours for the Assessment and Evaluation form; 500 hours for the Distribution Plan form; and 10 hours for the Major Purchase Request.

Respondent's Obligation: Required to Obtain or Retain a Benefit.

Frequency of Collection: Annually for the Assessment and Evaluation form, annually for the Distribution Plan, and on occasion as needed for the Major Purchase Request.

Total Estimated Annual Non-hour Burden Cost: $0.

An agency may not conduct or sponsor and a person is not required to respond to a collection of information unless it displays a currently valid OMB control number.

The authority for this action is the Paperwork Reduction Act of 1995 (44 U.S.C. 3501 et. seq).

Elizabeth K. Appel,
Director, Office of Regulatory Affairs and Collaborative Action—Indian Affairs.

[FR Doc. 2019-27973 Filed 12-26-19; 8:45 am]

BILLING CODE 4337-15-P